DEPARTMENT OF THE TREASURY

Internal Revenue Service

26 CFR Part 1

[REG-167217-03]

RIN 1545-BD03

Electronic Filing of Duplicate Forms 5472; Hearing Cancellation

AGENCY: Internal Revenue Service (IRS), Treasury.

ACTION: Cancellation of notice of public hearing on proposed rulemaking.

SUMMARY: This document provides notice of cancellation of a public hearing on regulations providing that a Form 5472 that is timely filed electronically is treated as satisfying the requirement timely to file a duplicate Form 5472 with the Internal Revenue Service Center in Philadelphia, Pennsylvania.

DATES: The public hearing originally scheduled for May 27, 2004, at 10 a.m., is cancelled.

FOR FURTHER INFORMATION CONTACT: Robin R. Jones of the Publications and Regulations Branch, Legal Processing Division at (202) 622-7180 (not a toll-free number).

SUPPLEMENTARY INFORMATION: A notice of proposed rulemaking and notice of public hearing that appeared in the Federal Register on Monday, February 9, 2004 (69 FR 5940), announced that a public hearing was scheduled for May 27, 2004, at 10 a.m., in the auditorium. The subject of the public hearing is proposed regulations under section 6038A and 6038C of the Internal Revenue Code. The public comment period for these regulations expired on May 10, 2004. The outlines of oral comments were due on May 6, 2004.

The notice of proposed rulemaking and notice of public hearing, instructed those interested in testifying at the public hearing to submit an outline of the topics to be addressed. As of Tuesday, May 18, 2004, no one has requested to speak. Therefore, the public hearing scheduled for May 27, 2004, is cancelled.

Cynthia E. Grigsby,
Acting Chief, Publications and Regulations Branch, Legal Processing Division, Associate Chief Counsel (Procedure and Administration).

[FR Doc. 04-11568 Filed 5-18-04; 2:07 pm]

BILLING CODE 4830-01-P